DEPARTMENT OF THE TREASURY

Office of the Comptroller of the Currency

[Docket ID OCC-2009-0009]

FEDERAL RESERVE SYSTEM

[Docket No. OP-1362]

FEDERAL DEPOSIT INSURANCE CORPORATION

DEPARTMENT OF THE TREASURY

Office of Thrift Supervision

[Docket ID OTS-2009-0011]

NATIONAL CREDIT UNION ADMINISTRATION

Proposed Interagency Guidance—Funding and Liquidity Risk Management

AGENCY: Office of the Comptroller of the Currency, Treasury (OCC); Board of Governors of the Federal Reserve System (Board); Federal Deposit Insurance Corporation (FDIC); Office of Thrift Supervision, Treasury (OTS); and National Credit Union Administration (NCUA).

ACTION: Request for public comment; correction.

SUMMARY: This notice corrects the notice published on July 6, 2009 on the proposed guidance on funding and liquidity risk management. The Federal Reserve is correcting the Affected Public and Estimated Burden sections of Part III (Paperwork Reduction Act) and the Office of the Comptroller of the Currency, Treasury; Board of Governors of the Federal Reserve System; Federal Deposit Insurance Corporation; Office of Thrift Supervision, Treasury; and National Credit Union Administration (the agencies) are correcting a footnote regarding the definition of “financial institution.”

DATES: Comments must be submitted on or before September 4, 2009.

FOR FURTHER INFORMATION CONTACT: James Embersit, Deputy Associate Director, Market and Liquidity Risk, 202-452-5249 or Mary Arnett, Supervisory Financial Analyst, Market and Liquidity Risk, 202-721-4534 or Brendan Burke, Supervisory Financial Analyst, Supervisory Policy and Guidance, 202-452-2987.

SUPPLEMENTARY INFORMATION: In the Federal Register issue of July 6, 2009 (74 FR 32035), the agencies, in conjunction with the Conference of State Bank Supervisors (CSBS), requested comment on the proposed guidance on funding and liquidity risk management (proposed Guidance). The proposed Guidance summarizes the principles of sound liquidity risk management that the agencies have issued in the past and, where appropriate, brings them into conformance with the “Principles for Sound Liquidity Risk Management and Supervision” issued by the Basel Committee on Banking Supervision (BCBS) in September 2008. While the BCBS liquidity principles primarily focuses on large internationally active financial institutions, the proposed guidance emphasizes supervisory expectations for all domestic financial institutions including banks, thrifts and credit unions.

The Federal Reserve is correcting the Affected Public and Estimated Burden sections of Part III (Paperwork Reduction Act) to read:

Affected Public

FRB: Bank holding companies, state member banks, state-licensed branches and agencies of foreign banks (other than insured branches), and corporations organized or operating under sections 25 or 25A of the Federal Reserve Act (Agreement corporations and Edge corporations).

Estimate of Respondent Burden:

FRB: Number of respondents: 6,156 total (29 large (over $100 billion in assets); 117 mid-size ($10—$100 billion); and 6,010 small (less than $10 billion).

Burden under Section 14: 720 hours per large respondent, 240 hours per mid-size respondent, and 80 hours per small respondent.

Burden under Section 20: 4 hours per month.

Total estimated annual burden: 825,248 hours.

In addition, the OCC, Board, FDIC, OTS, and NCUA are correcting footnote 4 (74 FR 32038) to read:

Unless otherwise indicated, this interagency guidance uses the term “financial institutions” or “institutions” to include banks, saving associations, credit unions, affiliated holding companies, state and federally chartered U.S. branches and agencies of foreign banks, and Edge and agreement corporations. Federally insured credit unions (FICUs) do not have holding company affiliations and therefore references to holding companies contained within this guidance are not applicable to FICUs.

[THIS SIGNATURE PAGE PERTAINS TO THE NOTICE AND REQUEST FOR COMMENT TITLED, “PROPOSED INTERAGENCY GUIDELINES—FUNDING LIQUIDITY RISK MANAGEMENT.”]

By order of the Board of Governors of the Federal Reserve System.
Robert deV. Frierson,
Deputy Secretary of the Board.
[THIS SIGNATURE PAGE PERTAINS TO THE NOTICE AND REQUEST FOR COMMENT TITLED, “PROPOSED INTERAGENCY GUIDELINES—FUNDING LIQUIDITY RISK MANAGEMENT.”]
Dated: August 4, 2009.
John C. Dugan,
Comptroller of the Currency.
[THIS SIGNATURE PAGE PERTAINS TO THE NOTICE AND REQUEST FOR COMMENT TITLED, “PROPOSED INTERAGENCY GUIDELINES—FUNDING LIQUIDITY RISK MANAGEMENT.”]
Dated at Washington, DC, the 3rd day of August, 2009.
By order of the Federal Deposit Insurance Corporation.
Robert E. Feldman,
Executive Secretary.
[THIS SIGNATURE PAGE PERTAINS TO THE NOTICE AND REQUEST FOR COMMENT TITLED, “PROPOSED INTERAGENCY GUIDELINES—FUNDING LIQUIDITY RISK MANAGEMENT.”]
Dated: August 7, 2009.
By the Office of Thrift Supervision.
John E. Bowman,
Acting Director.
[THIS SIGNATURE PAGE PERTAINS TO THE NOTICE AND REQUEST FOR COMMENT TITLED, “PROPOSED INTERAGENCY GUIDELINES—FUNDING LIQUIDITY RISK MANAGEMENT.”]
Dated: August 3, 2009.
By the National Credit Union Administration Board.
Mary F. Rupp,
Secretary of the Board.

[FR Doc. E9-19406 Filed 8-12-09; 8:45 am]

BILLING CODE 6210-01-P